COUNCIL OF THE INSPECTORS GENERAL ON INTEGRITY AND EFFICIENCY

Privacy Act of 1974; System of Records; Correction; Extension of Comment Period

AGENCY: Council of the Inspectors General on Integrity and Efficiency (CIGIE).

ACTION: Notice; correction; extension of comment period.

SUMMARY: CIGIE published a notice in the Federal Register on January 27, 2021, proposing to establish a system of records that is subject to the Privacy Act of 1974 entitled, “PRAC Data Warehouse System (PDWS)—CIGIE-5” (CIGIE-5). In that document, CIGIE erroneously stated that comments could be made through the Federal Rulemaking Portal: http://www.regulations.gov. This notice corrects that error and extends the comment period associated with the notice.

DATES: The system of records, CIGIE-5, appearing in the Federal Register of January 27, 2021, in FR Doc. 2021-01429, will become effective without further notice on March 8, 2021 unless comments are received that would result in a contrary determination.

FOR FURTHER INFORMATION CONTACT: Virginia Grebasch, Senior Counsel, Pandemic Response Accountability Committee, Council of the Inspectors General on Integrity and Efficiency, (202) 292-2600 or comments@cigie.gov.

SUPPLEMENTARY INFORMATION:

Correction

In the Federal Register of January 27, 2021, in FR Doc. 2021-01429, on page 7280, in the third column, correct the ADDRESSES caption to read:

ADDRESSES: Submit comments identified by “CIGIE-5” by any of the following methods:

1. Mail: Council of Inspectors General on Integrity and Efficiency, 1717 H Street NW, Suite 825, Washington, DC 20006. Attn: Virginia Grebasch/CIGIE-5, Notice of New System of Records.

2. Email: comments@cigie.gov.

Dated: February 1, 2021.
Allison C. Lerner,
Chairperson of the Council of the Inspectors General on Integrity and Efficiency.

[FR Doc. 2021-02338 Filed 2-3-21; 8:45 am]

BILLING CODE P